DEPARTMENT OF HEALTH AND HUMAN SERVICES

Health Resources and Services Administration

Amendment to a Notice of Availability of Funds Announced in the HRSA Preview—Primary Health Care Programs: New Delivery Sites and New Starts in Programs Funded Under the Health Centers Consolidation Act (NDSNS); CFDA Number 93.224; HRSA-04-034

AGENCY: Health Resources and Services Administration, HHS.

ACTION: Amendment to a notice of availability of funds.

SUMMARY: A notice of availability of funds announced in the HRSA Preview, “Primary Health Care Programs: New Delivery Sites and New Starts in Programs Funded Under the Health Centers Consolidation Act HRSA-04-034,” was published in the Federal Register on September 4, 2003 (Volume 68, Number 171), FR Doc. 03-22427. On page 52653, under announcement HRSA-04-034, the second application deadline date is extended to June 18, 2004. There are no other changes.

FOR FURTHER INFORMATION CONTACT: Tonya Bowers, HRSA/Bureau of Primary Health Care; 301-594-4300.

SUPPLEMENTARY INFORMATION: Program Information Notice 2004-02, “Requirements of Fiscal Year 2004 Funding Opportunity for Health Center New Access Point Grant Applications,” and application guidance is available at the Bureau of Primary Health Care Web page: http://www.bphc.hrsa.gov/pinspals/.

Dated: May 5, 2004.
Elizabeth M. Duke,
Administrator.

[FR Doc. 04-10754 Filed 5-11-04; 8:45 am]

BILLING CODE 4165-15-P